DEPARTMENT OF EDUCATION

[Docket No.: ED-2021-SCC-0055]

Agency Information Collection Activities; Comment Request; Gaining Early Awareness and Readiness for Undergraduate Programs (GEAR UP) Match Waiver Request Form

AGENCY: Office of Postsecondary Education (OPE), Department of Education (ED).

ACTION: Notice.

SUMMARY: In accordance with the Paperwork Reduction Act of 1995, ED is requesting the Office of Management and Budget (OMB) to conduct an emergency review of new information collection.

DATES: The Department has requested emergency processing from OMB for this information collection request by April 15, 2021; and therefore, requests public comment on this emergency information collection by April 14, 2021. In addition, the regular clearance process is hereby being initiated to provide the public with the opportunity to comment under the full comment period. Interested persons are invited to submit comments on or before April 8, 2021.

ADDRESSES: To access and review all the documents related to the information collection listed in this notice, please use http://www.regulations.gov by searching the Docket ID number ED-2021-SCC-0055. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave SW, LBJ, Room 208D, Washington, DC 20202-8240.

FOR FURTHER INFORMATION CONTACT: For specific questions related to collection activities, please contact Craig Pooler, 202-453-6195.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Gaining Early Awareness and Readiness for Undergraduate Programs (GEAR UP) Match Waiver Request Form.

OMB Control Number: 1840-NEW.

Type of Review: A new information collection.

Respondents/Affected Public: Private Sector; State, Local, and Tribal Governments.

Total Estimated Number of Annual Responses: 127.

Total Estimated Number of Annual Burden Hours: 64.

Abstract: The Department is requesting approval of a brief form that will collect information needed to determine GEAR UP grantees' eligibility for a waiver of the match requirement, as permitted under Section 3518(b) of the Coronavirus Aid, Relief, and Economic Security (CARES) Act. The Department has estimated 30 minutes of burden per respondent to provide this information.

Additional Information: Section 3518(b) of the CARES Act provides statutory authority for full match waivers. The proposed form will collect information needed to determine GEAR UP grantees' eligibility for a waiver of the match requirement. If this emergency collection is not approved, the Department will not be able to extend the match requirement flexibilities authorized by the CARES Act to GEAR UP grantees. Therefore, the Department is requesting approval no later than April 15, 2021 in order to implement this authority in a timely manner.

Lynn Mahaffie,
Assistant General Counsel, Division of Regulatory Services.

[FR Doc. 2021-06935 Filed 3-31-21; 4:15 pm]

BILLING CODE 4000-01-P